DEPARTMENT OF THE INTERIOR

Bureau of Land Management

[LLCOS05000 2009]

Notice of Intent To Prepare a Resource Management Plan for the Uncompahgre Field Office and Associated Environmental Impact Statement

AGENCY: Bureau of Land Management, Interior.

ACTION: Notice of Intent.

SUMMARY: In compliance with the National Environmental Policy Act (NEPA) of 1969, as amended, and the Federal Land Policy and Management Act (FLPMA) of 1976, as amended, the Bureau of Land Management (BLM) Uncompahgre Field Office (UFO), Montrose, Colorado intends to prepare a Resource Management Plan (RMP) with an associated Environmental Impact Statement (EIS) for the UFO and by this notice is announcing the beginning of the scoping process to solicit public comments and identify issues. The RMP will replace the existing 1985 San Juan/San Miguel RMP and the 1989 Uncompahgre Basin RMP.

DATES: This notice initiates the public scoping process for the RMP and the associated EIS. Comments on issues and planning criteria may be submitted in writing until March 29, 2010

Scoping meetings were held recently in the following locations:

Hotchkiss, CO, January 12, 2010.

Delta, CO, January 13, 2010.

Montrose, CO, January 14, 2010.

Ridgway, CO, January 19, 2010.

Norwood, CO, January 20, 2010.

Naturita, CO, January 21, 2010.

Telluride, CO, February 3, 2010.

The dates and locations of all scoping meetings were announced 15 days in advance through local media, a newsletter and the BLM Web site at: http://www.blm.gov/co/st/en/fo/ufo/uncompahgre_rmp.html. Comments received during scoping meetings held in January and February, 2010 will be incorporated in the record and considered by the BLM. In order to be included in the Draft EIS, all comments must be received prior to the close of the 30-day scoping period. The BLM will provide additional opportunities for public participation upon publication of the Draft EIS.

ADDRESSES: You may submit comments on issues and planning criteria by any of the following methods:

• Web site: http://www.blm.gov/co/st/en/fo/ufo/uncompahgre_rmp.html.

• E-mail: uformp@blm.gov.

• Fax: (970) 240-5367.

• Mail: BLM Uncompahgre Field Office, RMP Project Manager, 2465 S. Townsend Ave., Montrose, Colorado 81401.

Documents pertinent to this proposal may be examined at the UFO during regular business hours (from 8 a.m. to 4:30 p.m. Monday through Friday, except holidays).

FOR FURTHER INFORMATION CONTACT: For further information and/or to have your name added to our mailing list, contact Bruce Krickbaum, RMP Project Manager, telephone (970) 240-5300; address BLM Uncompahgre Field Office 2465 South Townsend Ave, Montrose, Colorado 81401; e-mail uformp@blm.gov.

SUPPLEMENTARY INFORMATION: This document: provides notice that the BLM UFO, Montrose, Colorado, intends to prepare an RMP with an associated EIS for the UFO; announces the beginning of the scoping process; and seeks public input on issues and planning criteria. The planning area is located in Delta, Gunnison, Mesa, Montrose, Ouray and San Miguel counties, Colorado, encompasses approximately 675,677 acres of public land, and excludes the Gunnison Gorge National Conservation Area and the Dominguez-Escalante National Conservation Area, which are managed under separate RMPs.

The purpose of the public scoping process is to determine relevant issues that will influence the scope of the environmental analysis, including alternatives, and guide the planning process. Preliminary issues for the planning area have been identified by BLM personnel, Federal, State, and local agencies, and other stakeholders. The issues include:

• Managing vegetative and water resources, terrestrial and aquatic habitat and special management areas, while sustaining biological diversity and native species populations;

• Managing mineral, renewable and nonrenewable energy resources;

• Managing increasing numbers and types of human activities and uses;

• Managing land tenure adjustments, withdrawals and utility/energy corridors;

• Managing and protecting cultural, historical and paleontological resources and Native American religious concerns; and

• Managing public lands and resources, including authorized and permitted land uses, for a growing population and expanding urban interface, with consideration for community values and needs.

Preliminary planning criteria include:

• Compliance with the FLPMA, the NEPA and other applicable laws and regulations.

• Incorporation of the Colorado BLM Standards for Public Land Health.

• Continued management of Wilderness Study Areas under the Interim Management Policy for Lands under Wilderness Review until Congress acts on a designation or releases lands from consideration.

• Decisions will be made that affect all BLM lands, including the subsurface mineral estate, within the planning area.

• Recognition of valid existing rights.

• Inclusion of adaptive management criteria to deal with future issues.

Public participation will be encouraged throughout the process. The BLM will collaborate and build relationships with tribes, State and local governments, Federal agencies, local stakeholders and others within the community of interest for the RMP.

You may submit comments on issues and planning criteria in writing to the BLM at any public scoping meeting, or you may submit them to the BLM using one of the methods listed in the ADDRESSES section above. To be most helpful, you should submit comments within the 30-day scoping period. Before including your address, phone number, e-mail address, or other personal identifying information in your comment, you should be aware that your entire comment—including you personal identifying information—may be made publicly available at any time. While you can ask us in your comment to withhold your personal identifying information from public review, we cannot guarantee that we will be able to do so. The BLM will evaluate identified issues to be addressed in the plan and place them into one of three categories:

1. Issues to be resolved in the plan;

2. Issues to be resolved through policy or administrative action; or

3. Issues beyond the scope of this plan.

The BLM will provide an explanation in the Draft RMP/EIS regarding why an issue was placed in category two or three. The public is also encouraged to help identify any management questions and concerns that should be addressed in the plan. The BLM will work collaboratively with the interested parties to identify the management decisions that are best suited to local, regional, and national needs and concerns.

The BLM will use an interdisciplinary approach to develop the plan in order to consider the variety of resource issues and concerns identified. Specialists with expertise in the following disciplines will be involved in the planning process: Wildlife; Threatened and Endangered Species; Vegetation; Riparian and Wetlands; Soils; Invasive and Noxious Weeds; Rangeland Management; Fire Ecology and Management; Cultural Resources and Native American Concerns; Hydrology; Geology and Minerals; Lands and Realty; Recreation; Visual Resource Management; Public Safety; Law Enforcement; and Geographic Information Systems.

Authority: 40 CFR 1501.7 and 43 CFR 1610.2.

Dave Hunsaker,
Acting State Director.

[FR Doc. 2010-3846 Filed 2-24-10; 8:45 am]

BILLING CODE P